DEPARTMENT OF DEFENSE

Office of the Secretary

Defense Science Board

AGENCY: Department of Defense.

ACTION: Notice of Advisory Committee location change.

SUMMARY: On Wednesday, July 14, 2004 (69 FR 42135) the Department of Defense announced closed meetings, of the Defense Science Board (DSB) Task Force on Critical Homeland Infrastructure Protection. The location of the October 4-5, 2004 meetings has been changed from SAIC, 4001 N. Fairfax Drive, Arlington, VA, 22201, to Altria Corp. Services, 120 Park Avenue, NY, 10017.

Dated: September 17, 2004.
L.M. Bynum,
Alternate OSD Federal Register Liaison Officer, Department of Defense.

[FR Doc. 04-21320 Filed 9-22-04; 8:45 am]

BILLING CODE 5001-06-M